POSTAL SERVICE

Board of Governors; Sunshine Act Meeting

Dates and Times: Wednesday, May 5, 2010, at 10 a.m.; Thursday, May 6, at 8:30 a.m. and 10:30 a.m.

Place: Washington, DC, at U.S. Postal Service Headquarters, 475 L'Enfant Plaza, SW., in the Benjamin Franklin Room.

Status: May 5 at 10 a.m.—Closed; Thursday, May 6 at 8:30 a.m.—Open; and 10:30 a.m.—Closed.

Matters To Be Considered:

Wednesday, May 5 at 10 a.m. (Closed)

1. Strategic Issues.

2. Financial Matters.

3. Pricing.

4. Personnel Matters and Compensation Issues.

5. Governors' Executive Session—Discussion of prior agenda items and Board Governance.

Thursday, May 6 at 8:30 a.m. (Open)

1. Approval of Minutes of Previous Meetings.

2. Remarks of the Chairman of the Board.

3. Remarks of the Postmaster General and CEO.

4. Committee Reports and Committee Charter Amendments.

5. Quarterly Report on Financial Performance.

6. Inspector General Report on USPS Share of CSRS Pension Responsibility.

7. Quarterly Report on Service Performance.

8. Tentative Agenda for the June 21-23, 2010, meeting in Louisville, Kentucky.

Thursday, May 6 at 10:30 a.m. (Closed—if needed)

1. Continuation of Wednesday's closed session agenda.

Contact Person for More Information: Julie S. Moore, Secretary of the Board, U.S. Postal Service, 475 L'Enfant Plaza, SW., Washington, DC 20260-1000. Telephone (202) 268-4800.

Julie S. Moore,
Secretary.

[FR Doc. 2010-10020 Filed 4-26-10; 4:15 pm]

BILLING CODE 7710-12-P